DEPARTMENT OF AGRICULTURE

Submission for OMB Review; Comment Request

August 29, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, D.C. 20503 and to Departmental Clearance Office, USDA, OCIO, Mail Stop 7602, Washington, D.C. 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Farm Service Agency

Title: Agricultural Foreign Investment Disclosure Act Report.

OMB Control Number: 0560-0097.

Summary of Collection: The Agricultural Foreign Investment Disclosure Act (AFIDA) requires foreign investors to report in a timely manner all held, acquired, or transferred U.S. agricultural land to the U.S. Department of Agriculture (USDA). Authority for the collection of the information was delegated by the Secretary of Agriculture to the Farm Service Agency (FSA). Foreign investors may obtain form FSA-153, AFIDA Report, from their local FSA county office or from the FSA Internet site. Investors are required to file a report within 90 days of the acquisition, transfer, or change in the use of their land.

Need and Use of the Information: The information collected from the AFIDA Reports is used to monitor the effect of foreign investment upon family farms and rural communities and in the preparation of a voluntary report to Congress and the President. Congress reviews the report and decides if regulatory action is necessary to limit the amount of foreign investment in U.S. agricultural land. If this information was not collected, USDA could not effectively monitor foreign investment and the impact of such holdings upon family farms and rural communities.

Description of Respondents: Business or other for-profit; Individuals or households; Farm.

Number of Respondents: 4,375.

Frequency of Responses: Reporting: On occasion.

Total Burden Hours: 1,108.

Farm Service Agency

Title: Sugar Payment-In-Kind (PIK) Program.

OMB Control Number: 0560-NEW.

Summary of Collection: Due to historically low prices for sugar combined with high government inventories, the Secretary of Agriculture has directed the Farm Service Agency (FSA) to implement a Sugar Payment-In-Kind (PIK) Diversion Program. The purpose of this program is to help restore balance to the sugar market, reduce the amount of forfeitures otherwise expected, and eliminate the Commodity Credit Corporation's (CCC) sugar inventory, thereby also eliminating storage costs. In order to participate in the program, sugar producers will submit bids indicating the dollar value of CCC sugar that they are willing to accept to divert acres from production. Producers will submit the required bid information on form FSA-744. This form will also serve as the contract between the CCC and the producer if their bid is accepted.

Need and Use of the Information: FSA will use the information collected to determine which sugar producers are eligible to participate in the Sugar PIK Program. If the information is not collected, FSA would not have a basis for evaluating which sugar bids to accept.

Description of Respondents: Business or other-for-profit.

Number of Respondents: 6,654.

Frequency of Responses: Reporting: Other (one-time).

Total Burden Hours: 3,327.

Agency is requesting an emergency approval by 8/21/00.

Risk Management Agency

Title: Dairy Options Pilot Program (DOPP), Round 2.

OMB Control Number: 0563-0058.

Summary of Collection: Risk Management Agency (RMA) request approval for a regular submission as a result of expansion and changes of the pilot program. Section 191 of the Federal Agricultural Improvement and Reform Act of 1996 authorizes the Secretary of Agriculture to conduct a pilot program for one or more agricultural commodities to determine the feasibility of the use of futures and options as risk management tools to protect producers from fluctuations in prices, yield and income.

The objective of Dairy Options Pilot Program (DOPP) is to ascertain whether put options can provide dairy producers with an effective risk management tool by providing reasonable protection from volatile dairy prices. A put option is a contract traded on eligible markets that gives the buyer the right but not the obligation to sell the underlying futures contact at the strike price on or before an established expiration date. Forms will be used to collect the information.

Need and Use of the Information: RMA will analyze the data and information collected in order to evaluate and recommend changes to the DOPP in a report should it be decided to make a dairy options program a permanent program for dairy producers. The information collected by RMA will be used to establish producer eligibility; to verify compliance of participating producers and brokers, and evaluating the effectiveness of put options as a risk management tool for dairy farmers.

Description of Respondents: Individuals or households; Farms; Business or other for-profit; Federal Government.

Number of Respondents: 6,150.

Frequency of Responses: Recordkeeping; Reporting: Semi-annually and as funds permit.

Total Burden Hours: 31,701.

Rural Housing Service

Title: 7 CFR Part 1924-A, Planning and Performing Construction and Other Development.

OMB Control Number: 0575-0042.

Summary of Collection: The Rural Housing Service (RHS) is the credit Agency for rural housing and community development within the Rural Development mission area of the United States Department of Agriculture. RHS offers a supervised credit program to build modest housing and essential community facilities in rural areas. Section 501 of Title V of the Housing Act of 1949, authorizes the Secretary of Agriculture to extend financial assistance to construct, improve, alter, repair, replace, or rehabilitate dwellings, farm buildings and/or related facilities to provide decent, safe sanitary living conditions and adequate farm building and other structures in rural areas. RHS will collect information using several forms.

Need and Use of the Information: RHS will collect information to determine whether a loan/grant can be approved, and to ensure that RHS has adequate security for the loans financed. The information will be used to monitor compliance with the terms and conditions of the Agency loan/grant and to monitor the prudent use of Federal funds. If the information is not collected and submitted, RHS would have no control over the type and quality of construction and development work planned and performed with Federal funds.

Description of Respondents: Individuals or households; Business or other for-profit; Not-for-profit institutions; Farms.

Number of Respondents: 25,340.

Frequency of Responses: Recordkeeping; Report: On occasion.

Total Burden Hours: 94,924.

Rural Housing Service

Title: 7 CFR 1956-C, Debt Settlement—Community and Business Programs.

OMB Control Number: 0575-0124.

Summary of Collection: Rural Housing Service (RHS) request an extension of currently approve information collection 7 CFR part 1956, subpart C Debt Settlement-Community and Business Programs. This subpart delegates authority, prescribes policies and procedures for the debt settlement in connection with Community Facility loans and grants, Water and Waste Disposal Systems loans; direct Business and Industry loans, Indian Tribal Land Acquisition loans, Irrigation and Drainage, and shift-in-Land use loans.

Rural Development including RHS, the Rural Business—Cooperative Service (RBS), the Rural Utilities Service (RUS) and the Farm Service Agency (FSA) are the credit agencies for agricultural and rural development for the United States Department of Agriculture. They offer supervised credit to develop, improve and operate family farms, modest housing, essential community facilities, and business and industry across rural America.

Need and Use of the Information: The debt settlement program provides the delinquent client with an equitable tool for the compromise, adjustment, cancellation, or charge-off of a debt owed to the Agency. The information collected is similar to that required by a commercial lender in similar circumstances. The field offices will collect information from applicants, borrowers, consultants, lenders, and attorneys. Failure to collect the information could result in improper servicing of these loans.

Description of Respondents: Not for profit institutions; Individuals, Households; Business or other for-profit; State, Local or Tribal Government.

Number of Respondents: 16.

Frequency of Responses: Reporting: On occasion.

Total Burden Hours: 880.

Rural Business—Cooperative Service

Title: CFG 1942—G “Rural business Enterprise Grants and Television Demonstration Grants”.

OMB Control Number: 0570-0022.

Summary of Collection: Rural Business Cooperative Service (RBS) request an extension for a currently approved information collection in support of the program for 7 CFR Part 1942-G Rural Business Enterprise Grants and Television Demonstration Grants (TDG). TDG are available to statewide, private nonprofit, public television systems to provide information on agriculture and other issues of importance to farmers and other rural residents.

This regulation covers the operation of this program and includes provisions to remove pass through grants as an eligible use of grants in connection with technical assistance, provisions that the amount funded for a project will not be subject to a dollar limitation, and specific eligibility requirements to determine how RBS evaluates the information.

Need and Use of the Information: RBS will use this information to determine (1) eligibility; (2) the specific purposes for which grant funds will be utilized; (3) time frames or dates by which actions surrounding the use of funds will be accomplished; (4) who will be carrying out the purposes for which the grant is made; (5) project priority; (6) applicants experience in administering a rural economic development program; (7) employment improvement; and (8) mitigation of economic distress of a community through the creation or salvation of jobs or emergency situations. If the information were not collected, RBS would not be able to determine the eligibility of applicant(s) for the authorized purposes. Collecting this information infrequently would have an adverse effect on the Agency's ability to administer the grant program.

Description of Respondents: Individuals or households; Farms; Business or other for profit; Federal Government.

Number of Respondents: 720.

Frequency of Responses: Recordkeeping; Reporting: Monthly; On Occasion; Quarterly.

Total Burden Hours: 40,650.

Food and Nutrition Service

Title: WIC Program Regulations—Reporting and Recordkeeping Burden.

OMB Control Number: 0584-0043.

Summary of Collection: The WIC Program is authorized by the Child Nutrition Act of 1966, as amended, and is administered by State and local health departments in accordance with WIC Program regulations at 7 CFR Part 246. State Plans are used by the Food and Nutrition Service (FNS) as the principal source of information that shows how each State agency WIC Program operates.

Need and Use of the Information: FNS will collect information to determine eligibility for program applicants; ensure appropriate and efficient management of the program; evaluate vendor trends and assess State agency efforts to control vendor fraud and abuse. The information collected is used by FNS to manage, plan, evaluate and account for Government resources. If the information were not collected the effectiveness of the program would be jeopardized, program funds would be improperly used and the Department and State agencies would be out of compliance with Federal laws.

Description of Respondents: State, Local, or Tribal Government; Individuals or households; Business or other for-profit; Not-for-profit institutions.

Number of Respondents: 7,642,801.

Frequency of Responses: Recordkeeping; Report: Semi-annually; Annually.

Total Burden Hours: 2,568,107.

Sondra Blakey,
Departmental Clearance Officer.

[FR Doc. 00-22580 Filed 9-1-00; 8:45 am]

BILLING CODE 3410-01-M